DEPARTMENT OF TRANSPORTATION

Federal Aviation Administration

14 CFR Part 97

[Docket No. 30929; Amdt. No. 3564]

Standard Instrument Approach Procedures, and Takeoff Minimums and Obstacle Departure Procedures; Miscellaneous Amendments

AGENCY: Federal Aviation Administration (FAA), DOT.

ACTION: Final rule.

SUMMARY: This rule establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective November 26, 2013. The compliance date for each SIAP, associated Takeoff Minimums, and ODP is specified in the amendatory provisions.

The incorporation by reference of certain publications listed in the regulations is approved by the Director of the Federal Register as of November 26, 2013.

ADDRESSES: Availability of matters incorporated by reference in the amendment is as follows:

For Examination—

1. FAA Rules Docket, FAA Headquarters Building, 800 Independence Avenue SW., Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

Availability—All SIAPs and Takeoff Minimums and ODPs are available online free of charge. Visit http://www.nfdc.faa.gov to register. Additionally, individual SIAP and Takeoff Minimums and ODP copies may be obtained from:

1. FAA Public Inquiry Center (APA-200), FAA Headquarters Building, 800 Independence Avenue SW., Washington, DC 20591; or

2. The FAA Regional Office of the region in which the affected airport is located.

FOR FURTHER INFORMATION CONTACT: Richard A. Dunham III, Flight Procedure Standards Branch (AFS-420), Flight Technologies and Programs Divisions, Flight Standards Service, Federal Aviation Administration, Mike Monroney Aeronautical Center, 6500 South MacArthur Blvd., Oklahoma City, OK 73169 (Mail Address: P.O. Box 25082, Oklahoma City, OK 73125) Telephone: (405) 954-4164.

SUPPLEMENTARY INFORMATION: This rule amends Title 14 of the Code of Federal Regulations, Part 97 (14 CFR part 97), by establishing, amending, suspending, or revoking SIAPS, Takeoff Minimums and/or ODPS. The complete regulators description of each SIAP and its associated Takeoff Minimums or ODP for an identified airport is listed on FAA form documents which are incorporated by reference in this amendment under 5 U.S.C. 552(a), 1 CFR part 51, and 14 CFR 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. The advantages of incorporation by reference are realized and publication of the complete description of each SIAP, Takeoff Minimums and ODP listed on FAA forms is unnecessary. This amendment provides the affected CFR sections and specifies the types of SIAPs and the effective dates of the, associated Takeoff Minimums and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPS and Takeoff Minimums and ODPS, an effective date at least 30 days after publication is provided.

Further, the SIAPs and Takeoff Minimums and ODPS contained in this amendment are based on the criteria contained in the U.S. Standard for Terminal Instrument Procedures (TERPS). In developing these SIAPS and Takeoff Minimums and ODPs, the TERPS criteria were applied to the conditions existing or anticipated at the affected airports. Because of the close and immediate relationship between these SIAPs, Takeoff Minimums and ODPs, and safety in air commerce, I find that notice and public procedures before adopting these SIAPS, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule ” under DOT Regulatory Policies and Procedures (44 FR 11034; February 26,1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, and Navigation (air).

Issued in Washington, DC on November 8, 2013.
John Duncan,
Director, Flight Standards Service.

Adoption of the Amendment

Accordingly, pursuant to the authority delegated to me, Title 14, Code of Federal Regulations, Part 97 (14 CFR part 97) is amended by establishing, amending, suspending, or revoking Standard Instrument Approach Procedures and/or Takeoff Minimums and/or Obstacle Departure Procedures effective at 0902 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 12 DECEMBER 2013

Fort Yukon, AK, Fort Yukon, Takeoff Minimums and Obstacle DP, Amdt 2

Koliganek, AK, Koliganek, RNAV (GPS) RWY 27, Orig-A

Petersburg, AK, Petersburg James A Johnson, RNAV (GPS)-B, Amdt 1A

White Mountain, AK, White Mountain, RNAV (GPS) RWY 15, Orig

White Mountain, AK, White Mountain, RNAV (GPS) RWY 33, Orig

White Mountain, AK, White Mountain, Takeoff Minimums and Obstacle DP, Orig

Huntsville, AL, Madison County Executive/Tom Sharp Jr Fld, ILS OR LOC/DME RWY 18, Amdt 1

Huntsville, AL, Madison County Executive/Tom Sharp Jr Fld, RNAV (GPS) RWY 18, Amdt 2

Huntsville, AL, Madison County Executive/Tom Sharp Jr Fld, RNAV (GPS) RWY 36, Amdt 1

Huntsville, AL, Madison County Executive/Tom Sharp Jr Fld, Takeoff Minimums and Obstacle DP, Amdt 4

Huntsville, AL, Madison County Executive/Tom Sharp Jr Fld, VOR/DME-B, Amdt 7

Fort Huachuca Sierra Vista, AZ, Sierra Vista Muni-Libby AAF, Takeoff Minimums and Obstacle DP, Amdt 3

Oakland, CA, Metropolitan Oakland Intl, RNAV (GPS) Y RWY 28R, Amdt 2A

San Diego, CA, San Diego Intl, LOC RWY 27, Amdt 5

San Diego, CA, San Diego Intl, RNAV (GPS) RWY 27, Amdt 3

Buena Vista, CO, Central Colorado Rgnl, GPS RWY 33, Orig, CANCELED

Buena Vista, CO, Central Colorado Rgnl, RNAV (GPS) RWY 33, Orig

Eagle, CO, Eagle County Rgnl, Takeoff Minimums and Obstacle DP, Amdt 8

Trinidad, CO, Perry Stokes, NDB-A, Amdt 3

Trinidad, CO, Perry Stokes, RNAV (GPS) RWY 3, Amdt 1

Trinidad, CO, Perry Stokes, RNAV (GPS)-B, Amdt 1

Trinidad, CO, Perry Stokes, Takeoff Minimums and Obstacle DP, Amdt 4

Lakeland, FL, Lakeland Linder Rgnl, RNAV (GPS) RWY 9, Amdt 2

Lakeland, FL, Lakeland Linder Rgnl, RNAV (GPS) RWY 27, Amdt 2

Live Oak, FL, Suwannee County, RNAV (GPS) RWY 7, Orig

Live Oak, FL, Suwannee County, RNAV (GPS) RWY 25, Orig

Live Oak, FL, Suwannee County, Takeoff Minimums and Obstacle DP, Orig

Miami, FL, Dade-Collier Training and Transition, ILS OR LOC RWY 9, Amdt 15

Miami, FL, Dade-Collier Training and Transition, NDB RWY 9, Amdt 14

Miami, FL, Dade-Collier Training and Transition, RNAV (GPS) RWY 9, Orig

Miami, FL, Miami Intl, RNAV (GPS) RWY 8L, Amdt 2

Miami, FL, Miami Intl, RNAV (GPS) RWY 26R, Amdt 2

Umatilla, FL, Umatilla Muni, RNAV (GPS) RWY 1, Orig

Umatilla, FL, Umatilla Muni, RNAV (GPS) RWY 19, Orig

Umatilla, FL, Umatilla Muni, Takeoff Minimums and Obstacle DP, Orig

Atlanta, GA, Hartsfield—Jackson Atlanta Intl, RNAV (RNP) Z RWY 8L, Amdt 1B

Atlanta, GA, Hartsfield—Jackson Atlanta Intl, RNAV (RNP) Z RWY 28, Amdt 2B

Calhoun, GA, Tom B. David Fld, LOC RWY 35, Amdt 1A, CANCELED

Calhoun, GA, Tom B. David Fld, LOC/NDB-A, Orig

Calhoun, GA, Tom B. David Fld, RNAV (GPS) RWY 17, Amdt 1

Calhoun, GA, Tom B. David Fld, RNAV (GPS) RWY 35, Amdt 1

Calhoun, GA, Tom B. David Fld, Takeoff Minimums and Obstacle DP, Amdt 3

Elberton, GA, Elbert County-Patz Field, RNAV (GPS) RWY 11, Amdt 1

Elberton, GA, Elbert County-Patz Field, RNAV (GPS) RWY 29, Amdt 1

Elberton, GA, Elbert County-Patz Field, Takeoff Minimums and Obstacle DP, Amdt 1

Elberton, GA, Elbert County-Patz Field, VOR/DME RWY 11, Amdt 4

Sandersville, GA, Kaolin Field, Takeoff Minimums and Obstacle DP, Amdt 2

Peoria, IL, Mount Hawley Auxiliary, Takeoff Minimums and Obstacle DP, Amdt 3

Winfield/Arkansas City, KS, Strother Field, ILS OR LOC RWY 35, Amdt 4A, CANCELED

Pittsfield, ME, Pittsfield Muni, NDB RWY 36, Amdt 4C

Pittsfield, ME, Pittsfield Muni, RNAV (GPS) RWY 18, Orig-B

Pittsfield, ME, Pittsfield Muni, RNAV (GPS) RWY 36, Orig-B

Three Rivers, MI, Three Rivers Muni Dr Haines, VOR-A, Amdt 10

Traverse City, MI, Cherry Capital, ILS OR LOC RWY 28, Amdt 14

Traverse City, MI, Cherry Capital, NDB RWY 28, Amdt 11

Traverse City, MI, Cherry Capital, Takeoff Minimums and Obstacle DP, Amdt 11

Traverse City, MI, Cherry Capital, VOR-A, Amdt 21

Minneapolis, MN, Flying Cloud, RNAV (GPS) RWY 28R, Amdt 2

St Joseph, MO, Rosecrans Memorial, RNAV (GPS) RWY 13, Orig

St Joseph, MO, Rosecrans Memorial, RNAV (GPS) RWY 17, Amdt 1

St Joseph, MO, Rosecrans Memorial, RNAV (GPS) RWY 31, Orig

St Joseph, MO, Rosecrans Memorial, RNAV (GPS) RWY 35, Amdt 2

Jackson, MS, Hawkins Field, RNAV (GPS) RWY 16, Amdt 2

Jackson, MS, Hawkins Field, RNAV (GPS) RWY 34, Amdt 2

Olive Branch, MS, Olive Branch, ILS OR LOC RWY 18, Amdt 3

Olive Branch, MS, Olive Branch, LOC/DME RWY 36, Amdt 1

Olive Branch, MS, Olive Branch, RNAV (GPS) RWY 18, Amdt 3

Olive Branch, MS, Olive Branch, RNAV (GPS) RWY 36, Amdt 1

Olive Branch, MS, Olive Branch, Takeoff Minimums and Obstacle DP, Amdt 1

Billings, MT, Billings Logan Intl, Takeoff Minimums and Obstacle DP, Amdt 7

Cut Bank, MT, Cut Bank Intl, Takeoff Minimums and Obstacle DP, Amdt 1

Shelby, MT, Shelby, RNAV (GPS) RWY 5, Orig

Shelby, MT, Shelby, RNAV (GPS) RWY 23, Amdt 2

Chapel Hill, NC, Horace Williams, RNAV (GPS) RWY 9, Orig-A

Chapel Hill, NC, Horace Williams, RNAV (GPS) RWY 27, Orig-A

Chapel Hill, NC, Horace Williams, VOR/DME RWY 27, Amdt 1A

Edenton, NC, Northeastern Rgnl, NDB RWY 19, Amdt 6, CANCELED

Greensboro, NC, Piedmont Triad Intl, ILS OR LOC RWY 14, Amdt 18C, CANCELED

Greensboro, NC, Piedmont Triad Intl, RNAV (GPS) RWY 32, Amdt 3

Devils Lake, ND, Devils Lake Rgnl, ILS OR LOC/DME RWY 31, Amdt 3

Devils Lake, ND, Devils Lake Rgnl, RNAV (GPS) RWY 3, Amdt 2

Devils Lake, ND, Devils Lake Rgnl, RNAV (GPS) RWY 13, Amdt 1

Devils Lake, ND, Devils Lake Rgnl, RNAV (GPS) RWY 21, Amdt 1

Devils Lake, ND, Devils Lake Rgnl, RNAV (GPS) RWY 31, Amdt 1

Devils Lake, ND, Devils Lake Rgnl, Takeoff Minimums and Obstacle DP, Amdt 2

Devils Lake, ND, Devils Lake Rgnl, VOR RWY 13, Amdt 1

Devils Lake, ND, Devils Lake Rgnl, VOR RWY 31, Amdt 1

New York, NY, La Guardia, RNAV (GPS) RWY 13, Amdt 1A

New York, NY, La Guardia, RNAV (GPS) RWY 31, Amdt 1B

New York, NY, La Guardia, RNAV (GPS) Y RWY 22, Amdt 2A

New York, NY, La Guardia, RNAV (RNP) Z RWY 22, Orig-C

Niagara Falls, NY, Niagara Falls Intl, ILS Y OR LOC RWY 28R, Amdt 23

Niagara Falls, NY, Niagara Falls Intl, ILS Z OR LOC/DME RWY 28R, Amdt 4

Lancaster, OH, Fairfield County, Takeoff Minimums and Obstacle DP, Amdt 2

Prineville, OR, Prineville, Takeoff Minimums and Obstacle DP, Amdt 2

Columbia/Mount Pleasant, TN, Maury County, Takeoff Minimums and Obstacle DP, Amdt 3

Millington, TN, Millington Rgnl Jetport, RNAV (GPS) RWY 4, Amdt 1

Oak Harbor, WA, AJ Eisenberg, RNAV (GPS) RWY 7, Amdt 2D

Milwaukee, WI, General Mitchell Intl, RNAV (RNP) Y RWY 7R, Orig

Milwaukee, WI, General Mitchell Intl, RNAV (RNP) Y RWY 25L, Orig

Spencer, WV, Boggs Field, RNAV (GPS) RWY 10, Amdt 2

[FR Doc. 2013-27947 Filed 11-25-13; 8:45 am]

BILLING CODE 4910-13-P